DEPARTMENT OF HOUSING AND URBAN DEVELOPMENT

[Docket No FR-4743-N-08]

Notice of Planned Little Rock, AR Post-of-Duty Station

AGENCY: Office of the Inspector General, HUD.

ACTION: Notice of planned closing of the Little Rock, Arkansas post-of-duty station.

SUMMARY: This notice advises the public that HUD's Office of the Inspector General (HUD/OIG) plans to close its Little Rock, Arkansas post-of-duty station, and also provides a cost-benefit analysis of the impact of this closure.

FOR FURTHER INFORMATION CONTACT: Bryan Saddler, Counsel to the Inspector General, Department of Housing and Urban Development, 451 Seventh Street, SW., Room 8260, Washington, DC 20410-4500, (202) 708-1613 (this is not a toll free number). A telecommunications device for hearing- and speech-impaired persons (TTY) is available at 1-800-877-8339 (Federal Information Relay Services).

SUPPLEMENTARY INFORMATION: In 1997, HUD/OIG established a two-person post-of-duty station in Little Rock, Arkansas to give direct support to the Operation Safe Home (OSH) initiative to combat violent and drug related crime in the public and assisted housing in the city and nearby communities. Nationwide experience since the initiation of OSH in 1994 had proven that the best results/impact could be obtained when an HUD/OIG Special Agent was physically located in the target city. However, in accordance with the requirements of the Fiscal Year 2002 HUD Appropriations Act (Pub. L. 107-73, approved November 26, 2001), HUD/OIG terminated OSH and began re-deploying staff to focus on investigations involving single-family fraud and property flipping.

Following the termination of OSH, HUD/OIG staff in Little Rock were deployed to other activities. In January 2006, one of the two Little Rock special agent retired. Later, in July 2006, the sole remaining special agent transferred to another agency, leaving the office with no staff. It has been determined, that backfilling the two special agent positions is not viable due to current hiring and financial constraints.

Section 7(p) of the Department of Housing and Urban Development Act (42 U.S.C. 3535(p)) provides that a plan for field reorganization, which may involve the closing of any HUD field or regional office may not take effect until 90 days after a cost-benefit analysis of the effect of the plan on the office in question is published in the Federal Register. The required cost-benefit analysis should include: (1) An estimate of cost savings anticipated; (2) an estimate of the additional cost which will result from the reorganization; (3) a discussion of the impact on the local economy; and (4) an estimate of the effect of the reorganization on the availability, accessibility, and quality of services provided for recipients of those services.

Legislative history pertaining to section 7(p) indicates that not all reorganizations are subject to the requirements of section 7(p). Congress stated that “[t]his amendment is not intended to [apply] to or restrict the internal operations or organization of the Department (such as the establishment of new or combination of existing organization units within a field office, the duty stationing of employees in various locations to provide on-site service, or the establishment or closing, based on workload, of small, informal offices such as valuation stations).” (See House Conference Report No. 95-1792, October 14, 1978 at 58.) The duty-stations in Little Rock, Arkansas is a single purpose duty station, and it is being closed based on workload rather than a reorganization of HUD/OIG field offices. Although notice of the closing of a duty station is not subject to the requirement of section 7(p), as supported by legislative history, HUD/OIG nevertheless prepared a cost benefit analysis for its own use in determining whether to proceed with the closing. Through this notice, HUD/OIG advises the public of the closing of the Little Rock, Arkansas duty station and provides the cost benefit analysis of the impact of the closure.

Impact of the Closure of the Little Rock, Arkansas Post-of-Duty Station

HUD/OIG considered the costs and benefits of closing the Little Rock, Arkansas post-of-duty station, and is publishing its cost-benefit analysis with this notice. In summary, HUD/OIG has determined that the closures will result in a cost savings, and, as a result of the size and limited function of the office, will cause no appreciable impact on the provision of authorized investigative services/activities in the area.

Cost-Benefit Analysis

A. Cost Savings: The post-of-duty station currently costs approximately $1,988.00 per month for space rental. Additional associated overhead expenses (e.g., telephone service) are incurred to operate the post-of-duty station. Thus, closing the office will result in annual savings of at least $25,356.00.

B. Additional Costs: It is anticipated that cost savings partially will be offset by travel costs associated with HUD/OIG staff having to travel to Little Rock, Arkansas for investigative purposes. However, a net savings has been forecast. Moreover, these travel costs would be incurred by HUD/OIG anyway prior to the recruitment of replacement staff for the office to be closed.

C. Impact on Local Economy: No appreciable impact on the local economy is anticipated. The post-of-duty station is co-located with office space leased by other federal agencies, and it is anticipated that the space can easily be re-leased to other tenants.

D. Effect on Availability, Accessibility and Quality of Services Provided to Recipients of Those Services: The establishment of the office was based entirely on the needs of the HUD/OIG to have special agents in closer proximity to OSH activities conducted in the Little Rock, Arkansas area. These activities have been terminated. Further, as was the case prior to the establishment of this office, special agents assigned to other HUD/OIG offices can cost-effectively address fraud investigations in the area.

For the reasons stated in this notice, HUD/OIG intends to proceed to close its Little Rock, Arkansas post-of-duty station at the expiration of the 90-day period from the date of publication of this notice.

Dated: August 16, 2006.
Kenneth M. Donohue, Sr.,
Inspector General.

[FR Doc. E6-14088 Filed 8-24-06; 8:45 am]

BILLING CODE 4210-67-P